DEPARTMENT OF THE INTERIOR

National Park Service

National Register of Historic Places; Notification of Pending Nominations and Related Actions

Nominations for the following properties being considered for listing or related actions in the National Register were received by the National Park Service before December 31, 2005.

Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW, 8th floor, Washington DC 20005; or by fax, 202-371-6447. Written or faxed comments should be submitted by February 9, 2006.

John W. Roberts,
Acting Chief, National Register/National Historic Landmarks Program.

CALIFORNIA

Los Angeles County

US Court House and Post Office, 312 N. Spring St., Los Angeles, 06000001

IDAHO

Teton County

Hollingshead Homestead, 107 West 1200 N. Teton Cty Rd., Tetonia, 06000002

ILLINOIS

Cook County

Hanson, Anton, E., House, 7610 S. Ridgeland Ave., Chicago, 06000008

Marywood Academy, 2100 Ridge Ave., Evanston, 06000007

Du Page County

Downtown Hinsdale Historic District, Roughly counded by maple St., Lincoln St., Garfield St. and Second St., Hinsdale, 06000011

Jackson County

Fuller, R. Bunckminster, and Anne Hewlett Dome Home, 407 S. Forest Ave., Carbondale, 06000012

Shelby County

Westervelt Christian Church, 103 W. Main St., Westervelt, 06000009

Wayne County

George, G.J., House, 205 W. Center, Fairfield, 06000006

Will County

Joilet YMCA, 215 N. Ottawa St., Joliet, 06000010

Winnebago County

Garrison School, 1105 N. Court St., Rockford, 06000005

IOWA

Clinton County

Moeszinger—Marquis Hardware Co., (Clinton, Iowa MPS) 721 Second St. S, Clinton, 06000004

Dubuque County

Dubuque Casket Company, 1798 Washington St., Dubuque, 06000003

NEW YORK

Bronx County

Concourse Yard Entry Buildings, (New York City Subway System MPS) W. 205th St., bet. Jerome and Paul Aves., Bronx, 06000014

Concourse Yard Substation, (New York City Subway System MPS) 3119 Jerome Ave., Bronx, 06000013

Kings County

Coney Island Yard Electric Motor Repair Shop, (New York City Subway System MPS) SW corner of Avenue X and Shell Rd., Brooklyn, 06000016

Coney Island Yard Gatehouse, (New York City Subway System MPS) SW corner of Shell Rd. and Avenue X, Brooklyn, 06000017

New York County

207th Street Yard—Signal Service Building and Tower B, (New York City Subway System MPS) W. 215th St. bet. Tenth Ave. and the Harlem R, Manhattan, 06000018

Central IND Substation, (New York City Subway System MPS) 136W. 53rd St., New York, 06000019

Joralemon Street Tunnel, (New York City Subway System MPS) Subteranean tunnel ext. from Bowling Green (State St.) to beneath the East River to Joralemon St. and Willow Place, New York, 06000015

Substation 13, (New York City Subway System MPS) 225 W 53rd St., New York, 06000026

Substation 17, (New York City Subway System MPS) 127—129 Hillside Ave., New York, 06000025

Substation 219, (New York City Subway System MPS) 309 W. 133rd St., New York, 06000023

Substation 235, (New York City Subway System MPS) 23 W. 13th St., New York, 06000021

Substation 235, (New York City Subway System MPS) 23 W. 13th St., New York, 06000022

Substation 409, (New York City Subway System MPS) 163 Essex St., New York, 06000020

Substation 42, (New York City Subway System MPS) 154 E. 57th St., New York, 06000024

Substation 7, (New York City Subway System MPS) 1782 Third Avenue, New York, 06000027

OHIO

Clermont County

Fagin, Aaron, House, 2088 Lindale-Nicholsville Rd., Monroe Township, 06000034

PUERTO RICO

Adjuntas Municipality

Quinta Vendrell, Portugues Ward, jct. of PR 143 and PR 123, Adjuntas, 06000028

VIRGINIA

Fairfax County

Tauxemont Historic District, Bet. Ft. Hunt Rd. and Accotink Place, Inc. Shenadoah, Tauxemont, Namassin, Wesmoreland and Gahant Rds. and Bolling, Alexandria, 06000033

Frederick County

Valley Mill Farm, 1494 Valley Mill Rd., Winchester, 06000032

Norfolk Independent City

Park Place Historic District, Roughly bounded by Hampton Blvd., 23rd St., Granby St. and 38th St., Norfolk (Independent City), 06000029

Petersburg Independent City

Poplar Lawn Historic District (Boundary Increase), Jct. of E Wythe and S. Jefferson, from SE of orig. HD to Lieutenant Run, Along both sides of Harrison St. at SW corner, Petersburg (Independent City), 06000030

Richmond Independent City

Hermitage Road Historic District, 3800-4200 blks of Hermitage Rd., Richmond (Independent City), 06000031

[FR Doc. E6-900 Filed 1-24-06; 8:45 am]

BILLING CODE 4310-51-P